DEPARTMENT OF HEALTH AND HUMAN SERVICES

National Institutes of Health

National Institute on Minority Health and Health Disparities; Cancellation of Meeting

Notice is hereby given of the cancellation of the National Institute on Minority Health and Health Disparities Special Emphasis Panel, June 18, 2025, 9:00 a.m. to June 18, 2025, 6:00 p.m., National Institutes of Health, NIMHD, DEM II, Suite 800, 6707 Democracy Boulevard, Bethesda, MD 20892 which was published in the Federal Register on April 9, 2025, FR Doc 2025-06088, 90 FR 15256.

This meeting notice is to cancel the meeting scheduled June 18, 2025. This meeting will not be rescheduled.

Dated: April 11, 2025.
David W. Freeman,
Supervisory Program Analyst, Office of Federal Advisory Committee Policy.

[FR Doc. 2025-06486 Filed 4-16-25; 8:45 am]

BILLING CODE 4140-01-P